DEPARTMENT OF ENERGY

Federal Energy Regulatory Commission

Combined Notice of Filings #1

Take notice that the Commission received the following exempt wholesale generator filings:

Docket Numbers: EG24-306-000.

Applicants: Hoosier Line Energy, LLC.

Description: Hoosier Line Energy, LLC submits Notice of Self-Certification of Exempt Wholesale Generator Status.

Filed Date: 9/30/24.

Accession Number: 20240930-5382.

Comment Date: 5 p.m. ET 10/21/24.

Docket Numbers: EG25-8-000.

Applicants: Morris Solar, LLC.

Description: Morris Solar, LLC submits Notice of Self-Certification of Exempt Wholesale Generator Status.

Filed Date: 10/15/24.

Accession Number: 20241015-5132.

Comment Date: 5 p.m. ET 11/5/24.

Docket Numbers: EG25-9-000.

Applicants: Milford Gen Lead, LLC.

Description: Milford Gen Lead, LLC submits Notice of Self-Certification of Exempt Wholesale Generator Status.

Filed Date: 10/15/24.

Accession Number: 20241015-5236.

Comment Date: 5 p.m. ET 11/5/24.

Take notice that the Commission received the following Complaints and Compliance filings in EL Dockets:

Docket Numbers: EL25-5-000.

Applicants: Welcome Solar, LLC, Welcome Solar II, LLC, and Welcome Solar III, LLC v. PJM Interconnection, L.L.C.

Description: Complaint of Welcome Solar, LLC, Welcome Solar II, LLC, and Welcome Solar III, LLC v. PJM Interconnection, L.L.C.

Filed Date: 10/4/24.

Accession Number: 20241004-5218.

Comment Date: 5 p.m. ET 10/24/24.

Take notice that the Commission received the following electric rate filings:

Docket Numbers: ER24-20-003.

Applicants: Cottontail Solar 2, LLC.

Description: Refund Report: Refund Report to be effective N/A.

Filed Date: 10/15/24.

Accession Number: 20241015-5009.

Comment Date: 5 p.m. ET 11/5/24.

Docket Numbers: ER24-943-001.

Applicants: Cottontail Solar 5, LLC.

Description: Refund Report: Refund Report to be effective N/A.

Filed Date: 10/15/24.

Accession Number: 20241015-5010.

Comment Date: 5 p.m. ET 11/5/24.

Docket Numbers: ER24-1929-002.

Applicants: Willowbrook Solar I, LLC.

Description: Compliance filing: Revised Rate Schedule to be effective 5/24/2024.

Filed Date: 10/15/24.

Accession Number: 20241015-5011.

Comment Date: 5 p.m. ET 11/5/24.

Docket Numbers: ER24-3010-001.

Applicants: Northern Indiana Public Service Company LLC.

Description: Tariff Amendment: Certificate of Concurrence to be effective 8/21/2024.

Filed Date: 10/15/24.

Accession Number: 20241015-5000.

Comment Date: 5 p.m. ET 11/5/24.

Docket Numbers: ER25-88-000.

Applicants: New England Power Company.

Description: § 205(d) Rate Filing: 2024-10-11 New England Power Company's Amendments to Agreement & Rqst for Waiver to be effective 5/30/2024.

Filed Date: 10/11/24.

Accession Number: 20241011-5170.

Comment Date: 5 p.m. ET 11/1/24.

Docket Numbers: ER25-89-000.

Applicants: Southwest Power Pool, Inc.

Description: § 205(d) Rate Filing: Submission of Tariff Revisions Re Planning Reserve Margin (RR 622) to be effective 10/1/2025.

Filed Date: 10/11/24.

Accession Number: 20241011-5195.

Comment Date: 5 p.m. ET 11/1/24.

Docket Numbers: ER25-90-000.

Applicants: Pacific Gas and Electric Company.

Description: § 205(d) Rate Filing: Amendment to Interim Black Start Agreement (RS 234) 2024 to be effective 12/14/2024.

Filed Date: 10/15/24.

Accession Number: 20241015-5001.

Comment Date: 5 p.m. ET 11/5/24.

Docket Numbers: ER25-91-000.

Applicants: Idaho Power Company.

Description: § 205(d) Rate Filing: RS 180—Concurrence—Hurricane Substation and Hurricane Walla Walla to be effective 12/30/2024.

Filed Date: 10/15/24.

Accession Number: 20241015-5002.

Comment Date: 5 p.m. ET 11/5/24.

Docket Numbers: ER25-92-000.

Applicants: Arizona Public Service Company.

Description: Tariff Amendment: Rate Schedule No. 217 Exhibit B Diagram Cancellations to be effective 12/14/2024.

Filed Date: 10/15/24.

Accession Number: 20241015-5006.

Comment Date: 5 p.m. ET 11/5/24.

Docket Numbers: ER25-93-000.

Applicants: PJM Interconnection, L.L.C.

Description: § 205(d) Rate Filing: Original GIA Service Agreement No. 7381; AG1-281 to be effective 9/12/2024.

Filed Date: 10/15/24.

Accession Number: 20241015-5007.

Comment Date: 5 p.m. ET 11/5/24.

Docket Numbers: ER25-94-000.

Applicants: California Independent System Operator Corporation.

Description: § 205(d) Rate Filing: 2024-10-15 Enable Inter-SC Trades of Energy in WEIM and EDAM Tariff Amendment to be effective 12/31/9998.

Filed Date: 10/15/24.

Accession Number: 20241015-5038.

Comment Date: 5 p.m. ET 11/5/24.

Docket Numbers: ER25-95-000.

Applicants: Southwest Power Pool, Inc.

Description: § 205(d) Rate Filing: 4331 WFEC GIA to be effective 9/27/2024.

Filed Date: 10/15/24.

Accession Number: 20241015-5096.

Comment Date: 5 p.m. ET 11/5/24.

Docket Numbers: ER25-96-000.

Applicants: PJM Interconnection, L.L.C.

Description: § 205(d) Rate Filing: Revisions to the Tariff Definition of Principal to be effective 12/15/2024.

Filed Date: 10/15/24.

Accession Number: 20241015-5119.

Comment Date: 5 p.m. ET 11/5/24.

Docket Numbers: ER25-97-000.

Applicants: Rochester Gas and Electric Corporation, New York Independent System Operator, Inc.

Description: § 205(d) Rate Filing: Rochester Gas and Electric Corporation submits tariff filing per 35.13(a)(2)(iii: NYISO-RG&E Joint 205: EPC Agreement for Cider Solar SA2856 to be effective 10/1/2024.

Filed Date: 10/15/24.

Accession Number: 20241015-5155.

Comment Date: 5 p.m. ET 11/5/24.

Docket Numbers: ER25-98-000.

Applicants: Entergy Louisiana, LLC.

Description: § 205(d) Rate Filing: ELL-EML MSS-4R Power Purchase Agreement to be effective 1/1/2025.

Filed Date: 10/15/24.

Accession Number: 20241015-5168.

Comment Date: 5 p.m. ET 11/5/24.

Docket Numbers: ER25-99-000.

Applicants: Louisville Gas and Electric Company.

Description: § 205(d) Rate Filing: BREC Daviess Contribution in Aid of Construction Agreement to be effective 12/15/2024.

Filed Date: 10/15/24.

Accession Number: 20241015-5195.

Comment Date: 5 p.m. ET 11/5/24.

Docket Numbers: ER25-100-000.

Applicants: Kentucky Utilities Company.

Description: § 205(d) Rate Filing: KU Concurrence BREC CIAC to be effective 12/15/2024.

Filed Date: 10/15/24.

Accession Number: 20241015-5207.

Comment Date: 5 p.m. ET 11/5/24.

Docket Numbers: ER25-101-000.

Applicants: Midcontinent Independent System Operator, Inc.

Description: § 205(d) Rate Filing: 2024-10-15_SA 3758 Termination of Ameren Illinois-Moraine Sands Wind E&P (J1453) to be effective 10/16/2024.

Filed Date: 10/15/24.

Accession Number: 20241015-5217.

Comment Date: 5 p.m. ET 11/5/24.

Docket Numbers: ER25-102-000.

Applicants: Midcontinent Independent System Operator, Inc.

Description: § 205(d) Rate Filing: 2024-10-15_SA 3691 Termination of ATC-WPL E&P (J1305) to be effective 10/16/2024.

Filed Date: 10/15/24.

Accession Number: 20241015-5223.

Comment Date: 5 p.m. ET 11/5/24.

Docket Numbers: ER25-103-000.

Applicants: PacifiCorp.

Description: § 205(d) Rate Filing: Construction Agreement Pronghorn_JOOA (RS No. 790) to be effective 12/15/2024.

Filed Date: 10/15/24.

Accession Number: 20241015-5269.

Comment Date: 5 p.m. ET 11/5/24.

Docket Numbers: ER25-104-000.

Applicants: Black Hills Power, Inc.

Description: § 205(d) Rate Filing: Schedule B Update to GDEMA between BHP and BH Wyoming to be effective 12/1/2024.

Filed Date: 10/15/24.

Accession Number: 20241015-5283.

Comment Date: 5 p.m. ET 11/5/24.

Docket Numbers: ER25-105-000.

Applicants: Black Hills Power, Inc.

Description: § 205(d) Rate Filing: Schedule B Update to GDEMA between BHP and BHCOE to be effective 12/1/2024.

Filed Date: 10/15/24.

Accession Number: 20241015-5284.

Comment Date: 5 p.m. ET 11/5/24.

Docket Numbers: ER25-106-000.

Applicants: Black Hills Power, Inc.

Description: § 205(d) Rate Filing: Schedule B Update to GDEMA between BHP and City of Gillette to be effective 12/1/2024.

Filed Date: 10/15/24.

Accession Number: 20241015-5287.

Comment Date: 5 p.m. ET 11/5/24.

Docket Numbers: ER25-107-000.

Applicants: Black Hills Power, Inc.

Description: § 205(d) Rate Filing: Schedule B Update to GDEMA between BHP and CLFP to be effective 12/1/2024.

Filed Date: 10/15/24.

Accession Number: 20241015-5288.

Comment Date: 5 p.m. ET 11/5/24.

Docket Numbers: ER25-108-000.

Applicants: Black Hills Power, Inc.

Description: § 205(d) Rate Filing: Schedule B Update to GDEMA between BHP and MDU to be effective 12/1/2024.

Filed Date: 10/15/24.

Accession Number: 20241015-5289.

Comment Date: 5 p.m. ET 11/5/24.

Docket Numbers: ER25-109-000.

Applicants: Silver State South Storage, LLC.

Description: Baseline eTariff Filing: Silver State South Storage, LLC Application for Market-Based Rate Authorization to be effective 12/15/2024.

Filed Date: 10/15/24.

Accession Number: 20241015-5300.

Comment Date: 5 p.m. ET 11/5/24.

Docket Numbers: ER25-110-000.

Applicants: ISO New England Inc.

Description: § 205(d) Rate Filing: ISO-NE; 2025 Capital Budget & Rev Tariff Sheets for Recovery of 2025 Admin Costs to be effective 1/1/2025.

Filed Date: 10/15/24.

Accession Number: 20241015-5316.

Comment Date: 5 p.m. ET 11/5/24.

Docket Numbers: ER25-111-000.

Applicants: Midcontinent Independent System Operator, Inc.

Description: Compliance filing: 2024-10-15_Annual Cost of New Entry and Net CONE Filing to be effective N/A.

Filed Date: 10/15/24.

Accession Number: 20241015-5350.

Comment Date: 5 p.m. ET 11/5/24.

Take notice that the Commission received the following electric reliability filings:

Docket Numbers: RR25-1-000.

Applicants: North American Electric Reliability Corporation.

Description: Petition for approval of proposed revisions to Appendix 4E to the North American Electric Reliability Corporation Rules of Procedure.

Filed Date: 10/15/24.

Accession Number: 20241015-5259.

Comment Date: 5 p.m. ET 11/5/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes.

For public inquiries and assistance with making filings such as interventions, comments, or requests for rehearing, the public is encouraged to contact OPP at (202) 502-6595 or OPP@ferc.gov.

Dated: October 15, 2024.
Debbie-Anne A. Reese,
Secretary.

[FR Doc. 2024-24374 Filed 10-21-24; 8:45 am]

BILLING CODE 6717-01-P